ENVIRONMENTAL PROTECTION AGENCY

40 CFR Part 52

[EPA-R07-OAR-2015-0106 FRL-9926-49-Region 7]

Approval and Promulgation of Air Quality Implementation Plans; Nebraska; Update to Materials Incorporated by Reference

AGENCY: Environmental Protection Agency (EPA).

ACTION: Final rule; notice of administrative change.

SUMMARY: The Environmental Protection Agency (EPA) is updating the materials submitted by Nebraska that are incorporated by reference (IBR) into the state implementation plan (SIP). EPA is also notifying the public of the correction of certain typographical errors within the IBR table. The regulations affected by this update have been previously submitted by the state agency and approved by EPA. This update affects the SIP materials that are available for public inspection at the National Archives and Records Administration (NARA), and the Regional Office.

DATES: This rule is effective on July 8, 2015.

ADDRESSES: SIP materials which are incorporated by reference into 40 CFR part 52 are available for inspection at the following locations: Environmental Protection Agency, Region 7, 11201 Renner Boulevard, Lenexa, Kansas 66219; or at http://www.epa.gov/region07/air/rules/fedapprv.htm; and the National Archives and Records Administration. For information on the availability of this material at NARA, call (202) 741-6030, or go to: www.archives.gov/federal-register/cfr/ibr-locations.html.

FOR FURTHER INFORMATION CONTACT: Jan Simpson at (913) 551-7089, or by email at simpson.jan@epa.gov.

SUPPLEMENTARY INFORMATION:

I. Background

The SIP is a living document which the state revises as necessary to address the unique air pollution problems in the state. Therefore, EPA from time to time must take action on SIP revisions containing new and/or revised regulations to make them part of the SIP. On May 22, 1997 (62 FR 27968), EPA revised the procedures for incorporating by reference Federally-approved SIPs, as a result of consultations between EPA and the Office of Federal Register (OFR). The description of the revised SIP document, IBR procedures and “Identification of plan” format are discussed in further detail in the May 22, 1997, Federal Register document.

On February 12, 1999, EPA published a document in the Federal Register (64 FR 7091) beginning the new IBR procedure for Nebraska. On December 1, 2003, (68 FR 67045) and on July 30, 2009 (74 FR 37939), EPA published updates to the IBR material for Nebraska.

In this document, EPA is publishing an updated set of tables listing the regulatory (i.e., IBR) materials in the Nebraska SIP taking into account the additions, deletions, and revisions to those materials previously submitted by the state agency and approved by EPA. We are removing the EPA Headquarters Library from paragraph (b)(3), as IBR materials are no longer available at this location. Table (e) revisions include:

• Adding text in the explanation column for (6)-(27).

II. EPA Action

In this action, EPA is doing the following:

A. Announcing the update to the IBR material as of December 31, 2014.

B. Revising the entry in § 52.1420(b) to reflect the update and corrections.

C. Revising certain entries in § 52.1420(e) as described above;

D. Correcting the date format in the “State effective date” or “State submittal date” and “EPA approval date” columns in § 52.1420(c), (d) and (e). Dates are numerical month/day/year without additional zeros;

E. Modifying the Federal Register citation in § 52.1420(c), (d) and (e) to reflect the beginning page of the preamble as opposed to the page number of the regulatory text.

EPA has determined that this rule falls under the “good cause” exemption in section 553(b)(3)(B) of the Administrative Procedures Act (APA) which, upon finding “good cause,” authorizes agencies to dispense with public participation and section 553(d)(3), which allows an agency to make a rule effective immediately (thereby avoiding the 30-day delayed effective date otherwise provided for in the APA). This rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by providing notice of the updated Nebraska SIP compilation.

Statutory and Executive Order Reviews

In this rule, EPA is finalizing regulatory text that includes incorporation by reference. In accordance with requirements of 1 CFR 51.5, EPA is finalizing the incorporation by reference of the Nebraska regulations described in the amendments to 40 CFR part 52 set forth below. EPA has made, and will continue to make, these documents generally available electronically through www.regulations.gov and/or in hard copy at the appropriate EPA office (see the ADDRESSES section of this preamble for more information).

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” under the terms of Executive Order 12866 (58 FR 51735, October 4, 1993) and is therefore not subject to review under Executive Orders 12866 and 13563 (76 FR 3821, January 21, 2011).

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the CAA pertaining to petitions for judicial review are not applicable to this action. Prior EPA rulemaking actions for each individual component of the Nebraska SIP compilations previously afforded interested parties the opportunity to file a petition for judicial review in the United States Court of Appeals for the appropriate circuit within 60 days of such rulemaking action. Thus, EPA sees no need in this action to reopen the 60-day period for filing such petitions for judicial review for this “Identification of plan” reorganization update action for the State of Nebraska.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 13, 2015.
Mark Hague,
Acting Regional Administrator, Region 7.

Editorial Note: This document was received for publication by the Office of the Federal Register on July 1, 2015.

For the reasons stated in the preamble, the EPA amends 40 CFR part 52 as set forth below:

PART 52—APPROVAL AND PROMULGATION OF IMPLEMENTATION PLANS

1. The authority citation for part 52 continues to read as follows:

Authority: 42 U.S.C. 7401 et seq.

Subpart CC—Nebraska

2. In § 52.1420, paragraphs (b), (c), (d) and (e) are revised to read as follows:

§ 52.1420 Identification of Plan.

* * * * *

(b) Incorporation by reference. (1) Material listed in paragraphs (c) and (d) of this section with an EPA approval date prior to December 31, 2014, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after December 31, 2014, will be incorporated by reference in the next update to the SIP compilation.

(2) EPA Region 7 certifies that the rules/regulations provided by EPA in the SIP compilation at the addresses in paragraph (b)(3) of this section are an exact duplicate of the officially promulgated state rules/regulations which have been approved as part of the SIP as of December 31, 2014.

(3) Copies of the materials incorporated by reference may be inspected at the Environmental Protection Agency, Region 7, Air Planning and Development Branch, 11201 Renner Boulevard, Lenexa, Kansas 66219; at the EPA, Air and Radiation Docket and Information Center, and the National Archives and Records Administration (NARA). If you wish to obtain material from the EPA Regional Office, please call (913) 551-7089. For information on the availability of this material at NARA, call (202) 741-6030, or go to: www.archives.gov/federal-register/cfr/ibr-locations.html.

(c) EPA-approved regulations.

EPA-Approved Nebraska Regulations
Nebraska citation | Title | State effective date | EPA approval date | Explanation
STATE OF NEBRASKA
Department of Environmental Quality
Title 129—Nebraska Air Quality Regulations
129-1 | Definitions | 4/1/12 | 8/4/14, 79 FR 45108 |
129-2 | Definition of Major Source | 3/14/06 | 3/22/11, 76 FR 15852 |
129-3 | Region and Subregions: How Classified | 6/26/94 | 1/4/95, 60 FR 372 |
129-4 | Ambient Air Quality Standards | 4/1/02, 7/10/02 | 7/8/03, 68 FR 40528 |
129-5 | Operating Permit—When Required | 11/20/02 | 9/5/03, 68 FR 52691 | Section 001.02 is not SIP approved.
129-6 | Emissions Reporting; When Required | 11/20/02 | 9/5/03, 68 FR 52691 |
129-7 | Operating Permits—Application | 8/22/00 | 5/29/02, 67 FR 37325 |
129-8 | Operating Permit Content | 8/22/00 | 5/29/02, 67 FR 37325 |
129-9 | General Operating Permits for Class I and II Sources | 6/26/94 | 1/4/95, 60 FR 372 |
129-10 | Operating Permits for Temporary Sources | 9/7/97 | 1/20/00, 65 FR 3130 |
129-11 | Operating Permits—Emergency; Defense | 6/26/94 | 1/4/95, 60 FR 372 |
129-12 | Operating Permit Renewal and Expiration | 5/29/95 | 2/9/96, 61 FR 4899 |
129-13 | Class I Operating Permit—EPA Review; Affected States Review; Class II Permit | 6/26/94 | 1/4/95, 60 FR 372 |
129-14 | Permits—Public Participation | 2/6/08 | 3/22/11, 76 FR 15852 |
129-15 | Operating Permit Modification; Reopening for Cause | 2/6/08 | 3/22/11, 76 FR 15852 |
129-16 | Stack Heights; Good Engineering Practice (GEP) | 12/15/98 | 5/29/02, 67 FR 37325 |
129-17 | Construction Permits—When Required | 4/1/12 | 8/4/14, 79 FR 45108 | Approval does not include Nebraska's revisions to sections 001.02T and 013.04T pertaining to ethanol production facilities, which were not submitted by the State.
129-19 | Prevention of Significant Deterioration of Air Quality | 4/1/12 | 8/4/14, 79 FR 45108 | Provisions of the 2010 PM2.5 PSD-Increments, SILs and SMCs rule (75 FR 64865, October 20, 2010) relating to SILs and SMCs that were affected by the January 22, 2013, U.S. Court of Appeals decision are not SIP approved.
129-20 | Particulate Emissions; Limitations and Standards (Exceptions Due to Breakdowns or Scheduled Maintenance: See Chapter 35) | 2/7/04 | 3/31/05, 70 FR 16426 |
129-21 | Controls for Transferring, Conveying, Railcar and Truck Loading at Rock Processing Operations in Cass County | 7/10/02 | 7/8/03, 68 FR 40528 |
129-22 | Incinerators; Emission Standards | 9/7/97 | 1/20/00, 65 FR 3130 |
129-24 | Sulfur Compound Emissions; Existing Sources Emission Standards | 6/26/94 | 1/4/95, 60 FR 372 |
129-25 | Nitrogen Oxides (Calculated as Nitrogen Dioxide); Emissions Standards for Existing Stationary Sources | 9/7/97 | 1/20/00, 65 FR 3130 |
129-30 | Open Fires, Prohibited; Exceptions | 9/25/05 | 8/11/10, 75 FR 48582 |
129-32 | Dust; Duty to Prevent Escape of | 6/26/94 | 1/4/95, 60 FR 372 |
129-33 | Compliance; Time Schedule for | 6/26/94 | 1/4/95, 60 FR 372 |
129-34 | Emission Sources; Testing; Monitoring | 5/7/05 | 7/10/06, 71 FR 38776 |
129-35 | Compliance; Exceptions Due to Startup, Shutdown, or Malfunction | 9/7/97 | 1/20/00, 65 FR 3130 |
129-36 | Control Regulations; Circumvention, When Excepted | 6/26/94 | 1/4/95, 60 FR 372 |
129-37 | Compliance; Responsibility | 6/26/94 | 1/4/95, 60 FR 372 |
129-38 | Emergency Episodes; Occurrence and Control, Contingency Plans | 6/26/94 | 1/4/95, 60 FR 372 |
129-39 | Visible Emissions from Diesel-powered Motor Vehicles | 6/26/94 | 1/4/95, 60 FR 372 |
129-40 | General Conformity | 5/29/95 | 2/12/96, 61 FR 5297 |
129-41 | General Provisions | 12/15/98 | 5/29/02, 67 FR 37325 |
129-42 | Permits-By-Rule | 11/20/02, 4/8/03, 5/7/05 | 7/10/06, 71 FR 38776 |
129-43 | Consolidated with Chapter 41 | 5/29/95 | 2/9/96, 61 FR 4899 |
129-44 | Consolidated with Chapter 41 | 5/29/95 | 2/9/96, 61 FR 4899 |
Appendix I | Emergency Emission Reductions | 6/26/94 | 1/4/95, 60 FR 372 |
Appendix II | Hazardous Air Pollutants (HAPS) | 5/7/05 | 7/10/06, 71 FR 38776 |
Title 115—Rules of Practice and Procedure
115-1 | Definitions of Terms | 8/8/93 | 1/4/95, 60 FR 372 |
115-2 | Filing and Correspondence | 8/8/93 | 1/4/95, 60 FR 372 |
115-3 | Public Records Availability | 8/8/93 | 1/4/95, 60 FR 372 |
115-4 | Public Records Confidentiality | 8/8/93 | 1/4/95, 60 FR 372 |
115-5 | Public Hearings | 8/8/93 | 1/4/95, 60 FR 372 |
115-6 | Voluntary Compliance | 8/8/93 | 1/4/95, 60 FR 372 |
115-7 | Contested Cases | 8/8/93 | 1/4/95, 60 FR 372 |
115-8 | Emergency Proceeding Hearings | 8/8/93 | 1/4/95, 60 FR 372 |
115-9 | Declaratory Rulings | 8/8/93 | 1/4/95, 60 FR 372 |
115-10 | Rulemaking | 8/8/93 | 1/4/95, 60 FR 372 |
115-11 | Variances | 8/8/93 | 1/4/95, 60 FR 372 |
Lincoln-Lancaster County Air Pollution Control Program
Article 1—Administration and Enforcement
Section 1 | Intent | 5/16/95 | 2/14/96, 61 FR 56991 |
Section 2 | Unlawful Acts—Permits Required | 5/16/95 | 2/14/96, 61 FR 5699 |
Section 3 | Violations—Hearings—Orders | 5/16/95 | 2/14/96, 61 FR 5699 |
Section 4 | Appeal Procedure | 5/16/95 | 2/14/96, 61 FR 5699 |
Section 5 | Variance | 5/16/95 | 2/14/96, 61 FR 5699 |
Section 7 | Compliance—Actions to Enforce—Penalties for Non-Compliance | 5/16/95 | 2/14/96, 61 FR 5699 |
Section 8 | Procedure for Abatement | 5/16/95 | 2/14/96, 61 FR 5699 |
Section 9 | Severability | 5/16/95 | 2/14/96, 61 FR 5699 |
Article 2—Regulations and Standards
Section 1 | Definitions | 8/11/98 | 1/20/00, 65 FR 3130 |
Section 2 | Major Sources—Defined | 8/11/98 | 1/20/00, 65 FR 3130 |
Section 4 | Ambient Air Quality Standards | 5/16/95 | 2/14/96, 61 FR 5699 |
Section 5 | Operating Permits—When Required | 8/11/98 | 1/20/00, 65 FR 3130 |
Section 6 | Emissions Reporting—When Required | 8/11/98 | 1/20/00, 65 FR 3130 |
Section 7 | Operating Permit—Application | 8/11/98 | 1/20/00, 65 FR 3130 |
Section 8 | Operating Permit—Content | 8/11/98 | 1/20/00, 65 FR 3130 |
Section 9 | General Operating Permits for Class I and II Sources | 5/16/95 | 2/14/96, 61 FR 5699 |
Section 10 | Operating Permits for Temporary Services | 5/16/95 | 2/14/96, 61 FR 5699 |
Section 11 | Emergency Operating Permits—Defense | 5/16/95 | 2/14/96, 61 FR 5699 |
Section 12 | Operating Permit Renewal and Expiration | 5/16/95 | 2/14/96, 61 FR 5699 |
Section 14 | Permits—Public Participation | 5/16/95 | 2/14/96, 61 FR 5699 |
Section 15 | Operating Permit Modifications—Reopening for Cause | 8/11/98 | 1/20/00, 65 FR 3130 |
Section 16 | Stack—Heights—Good Engineering Practice (GEP) | 5/16/95 | 2/14/96, 61 FR 5699 |
Section 17 | Construction Permits—When Required | 8/11/98 | 1/20/00, 65 FR 3130 |
Section 19 | Prevention of Significant Deterioration of Air Quality | 5/16/95 | 2/14/96, 61 FR 5699 |
Section 20 | Particulate Emissions—Limitations and Standards | 3/31/97 | 1/20/00, 65 FR 3130 |
Section 22 | Incinerator Emissions | 5/16/95 | 2/14/96, 61 FR 5699 |
Section 24 | Sulfur Compound Emissions—Existing Sources—Emission Standards | 5/16/95 | 2/14/96, 61 FR 5699 |
Section 25 | Nitrogen Oxides (Calculated as Nitrogen Dioxide)—Emissions Standards for Existing Stationary Sources | 5/16/95 | 2/14/96, 61 FR 5699 |
Section 32 | Dust—Duty to Prevent Escape of | 3/31/97 | 1/20/00, 65 FR 3130 |
Section 33 | Compliance—Time Schedule for | 5/16/95 | 2/14/96, 61 FR 5699 |
Section 34 | Emission Sources—Testing—Monitoring | 5/16/95 | 2/14/96, 61 FR 5699 |
Section 35 | Compliance—Exceptions Due to Startup Shutdown or Malfunction | 5/16/95 | 2/14/96, 61 FR 5699 |
Section 36 | Control Regulations—Circumvention—When Expected | 5/16/95 | 2/14/96, 61 FR 5699 |
Section 37 | Compliance—Responsibility of Owner/Operator Pending Review by Director | 5/16/95 | 2/14/96, 61 FR 5699 |
Section 38 | Emergency Episodes—Occurrence and Control—Contingency Plans | 5/16/95 | 2/14/96, 61 FR 5699 |
Appendix I | Emergency Emission Reduction Regulations | 5/16/95 | 2/14/96, 61 FR 5699 |
City of Omaha
Chapter 41—Air Quality Control
Article I—In General
41-2 | Adoption of State Regulations with Exceptions | 4/1/98 | 1/20/00, 65 FR 3130 |
41-4 | Enforcement—Generally | 5/29/95 | 2/14/96, 61 FR 5699 |
41-5 | Same Health Department | 5/29/95 | 2/14/96, 61 FR 5699 |
41-6 | Residential Exemptions | 5/29/95 | 2/14/96, 61 FR 5699 |
41-9 | Penalties | 5/29/95 | 2/14/96, 61 FR 5699 |
41-10 | Civil Enforcement | 5/29/95 | 2/14/96, 61 FR 5699 |
Article II—Permitting of Air Contaminant Sources
41-23 | Prerequisite to Approval | 5/29/95 | 2/14/96, 61 FR 5699 |
41-27 | Signature Required; Guarantee | 5/29/95 | 2/14/96, 61 FR 5699 |
41-38 | Funds | 5/29/95 | 2/14/96, 61 FR 5699 |
41-40 | Fees—When Delinquent | 5/29/95 | 2/14/96, 61 FR 5699 |
Article IV—Waste Incinerators—Division 1. Generally
41-60 | Definitions | 5/29/95 | 2/14/96, 61 FR 5699 |
41-61 | Violations | 5/29/95 | 2/14/96, 61 FR 5699 |
Article IV—Waste Incinerators—Division 2. Emissions
41-70 | New or Modified Facilities | 5/29/95 | 2/14/96, 61 FR 5699 |
41-71 | Existing Facilities | 5/29/95 | 2/14/96, 61 FR 5699 |
41-72 | Emission Testing | 5/29/95 | 2/14/96, 61 FR 5699 |
Article IV—Waste Incinerators—Division 3. Design
41-80 | New or Modified Waste Incinerators | 5/29/95 | 2/14/96, 61 FR 5699 |
41-81 | Existing Incinerators | 5/29/95 | 2/14/96, 61 FR 5699 |

(d) EPA-approved state source-specific permits.

EPA-Approved Nebraska Source-Specific Permits
Name of source | Permit No. | State effective date | EPA approval date | Explanation
(1) Gould, Inc | 677 | 11/9/83 | 1/31/85, 50 FR 4510 |
(2) Asarco, Inc. | 1520 | 6/6/96 | 3/20/97, 62 FR 13329 | The EPA did not approve paragraph 19.
(3) Nebraska Public Power District, Gerald Gentleman Station | CP07-0050 | 5/11/10 | 7/6/12, 78 FR 40140 | EPA has only approved the elements of the permit pertaining to NOX requirements.
(4) Omaha Public Power District, Nebraska City Station | CP07-0049 | 2/26/09 | 7/6/12, 78 FR 40140 |

(e) EPA-approved nonregulatory provisions and quasi-regulatory measures.

EPA-Approved Nebraska Nonregulatory Provisions
Name of nonregulatory SIP provision | Applicable geographic or nonattainment area | State submittal date | EPA approval date | Explanation
(1) Air Quality Implementation Plan | Statewide | 1/28/72 | 5/31/72, 37 FR 10842 |
(2) Confirmation That the State Does Not Have Air Quality Control Standards Based on Attorney General's Disapproval | Statewide | 4/25/72 | 5/31/72, 37 FR 10842 |
(3) Request for Two-Year Extension to Meet the Primary NOX Standard | Omaha | 1/24/72 | 7/27/72, 37 FR 15080 |
(4) Clarification of Section 11 of the State's Plan | Statewide | 2/16/72 | 7/27/72, 37 FR 15080 |
(5) Letters Clarifying the Application of the State's Emergency Episode Rule | Omaha | 10/2/72 | 5/14/73, 38 FR 12696 |
(6) Analysis of Ambient Air Quality in Standard Metropolitan Statistical Areas and Recommendations for Air Quality Maintenance Areas | Omaha, Lincoln, Sioux City | 5/9/74 | 6/2/75, 40 FR 23746 | [FRL 369-8].
(7) Amended State Law (LB1029) Giving the Department of Environmental Quality Authority to Require Monitoring of Emissions, Reporting of Emissions and Release of Emissions Data | Statewide | 2/10/76 | 6/23/76, 41 FR 25898 | [FRL 564-5].
(8) Air Monitoring Plan | Statewide | 6/19/81 | 10/6/81, 46 FR 49122 | [A-7-FRL-1933-1].
(9) TSP Nonattainment Plan | Douglas and Cass Counties | 9/25/80 8/9/82 | 3/28/83, 48 FR 12715 | [EPA Action NE 129; A-7-FRL 2302-8].
(10) Plan for Intergovernmental Consultation and Coordination and for Public Notification | Statewide | 8/9/82 | 7/5/83, 48 FR 30631 | [EPA Action NE 1123; A-7-FRL 2353-7].
(11) Lead Plan | Statewide except Omaha | 1/9/81, 8/5/81, 1/11/83 | 11/29/83, 48 FR 53697 | [AD-FRL 2479-3; EPA Action NE 1122] The plan was approved except that portion pertaining to Omaha.
(12) Lead Nonattainment Plan | Omaha | 7/24/84, 11/17/83, 8/1/84 | 1/31/85, 50 FR 4510 | [NE 1418; A-7-FRL-2768-3].
(13) CO Nonattainment Plan | Omaha | 4/3/85 | 9/15/86, 51 FR 32640 | [A-7-FRL-3065-7].
(14) CO Nonattainment Plan | Lincoln | 4/3/85 | 9/19/86, 51 FR 33264 | [A-7-FRL-3082-8].
(15) Revised Lead Nonattainment Plan | Omaha | 2/2/87 | 8/3/87, 52 FR 28694 | [A-7-FRL-3238-2].
(16) Letter Pertaining to NOX Rules and Analysis Which Certifies the Material Became Effective on February 20, 1991 | Statewide | 3/8/91 | 7/2/91, 56 FR 30335 | [FRL-3968-7] State submittal date is date of the letter.
(17) Small Business Assistance Program | Statewide | 11/12/92 | 8/30/93, 58 FR 45452 | [NE-4-1-5861; FRL-4694-6].
(18) Class II Operating Permit Program Including Letter Committing to Submit Information to RACT/BACT/LAER Clearinghouse, Letter Regarding Availability of State Operating Permits to the EPA and Specified Emissions Limits in Permits, and Letter Regarding the Increase in New Source Review Thresholds | Statewide | 2/16/94 | 1/4/95, 60 FR 372 | [NE-6-1-6445a; FRL-5115-3].
(19) Letter from City of Omaha Regarding Authority to Implement Section 112(l) and Letter from the State Regarding Rule Omissions and PSD Program Implementation | Omaha, Lincoln | 9/13/95, 11/9/95 | 2/14/96, 61 FR 5725 | [NE-9-1-7220b, FRL-5409-8]. State submittal dates are dates of letters.
(20) Lincoln Municipal Code, Chapter 8.06.140 and 8.06.145 | City of Lincoln | 2/5/99 | 1/20/00, 65 FR 3130 | [NE 071-1071a, FRL-6521-6].
(21) Lancaster Co. Resolution 5069, Sections 12 and 13 | Lancaster County | 2/5/99 | 1/20/00, 65 FR 3130 | [NE 071-1071a, FRL-6521-6].
(22) Nebraska Lead Maintenance SIP | Omaha | 1/18/01 | 4/20/01, 66 FR 20196 | [Region 7 Tracking No. 0124-1124(b), FRL-6968-5].
(23) CAA 110(1)(2)(D)(i) SIP—Interstate Transport | Statewide | 5/18/07 | 12/17/07, 72 FR 71245 | [EPA-R07-OAR-2007-1128, FRL-8507-1].
(24) Section 110(a)(2) Infrastructure Requirements for the 1997 8-Hour Ozone NAAQS | Statewide | 12/7/07 | 7/8/11, 76 FR 40258 | [EPA-R07-OAR-2011-0310, FRL-9434-4]. This action addresses the following CAA elements as applicable: 110(a)(2)(A), (B), (C), (D)(ii), (E), (F), (G), (H), (J), (K), (L), and (M).
(25) Regional haze plan for the first implementation period | Statewide | 6/30/11 | 7/6/12, 78 FR 40150 | [EPA-R07-OAR-2012-0158; FRL-9689-2]. The plan was approved except for that portion pertaining to SO2 BART for Nebraska Public Power District, Gerald Gentleman Units 1 and 2, and the portion of the long- term strategy addressing the SO2 BART measures for these Units.
(26) Section 110(a)(2) Infrastructure Requirements for the 2008 Pb NAAQS | Statewide | 10/18/11 | 10/21/14, 79 FR 62832 | [EPA-R07-OAR-2014-0685; FRL-9918-13-Region 7]. This action addresses the following CAA elements: 110(a)(2)(A), (B), (C), (D), (E), (F), (G), (H), (J), (K), (L), and (M).
(27) Section 128 Declaration: Nebraska Department of Environmental Quality Representation and Conflicts of Interest Provisions, Section 49-1493(13) of the NE Political Accountability and Disclosure Act and Chapter 2 of Title 4, NE Accountability and Disclosure Commission | Statewide | 8/22/13 | 10/21/14, 79 FR 62832 | [EPA-R07-OAR-2014-0685; FRL-9918-13-Region 7]. This declaration is contained within Nebraska's 2010 Sulfur Dioxide NAAQS Infrastructure SIP submission concerning Section 110(a)(2)(E) of the CAA.

[FR Doc. 2015-16632 Filed 7-7-15; 8:45 am]

BILLING CODE 6560-50-P